ENVIRONMENTAL PROTECTION AGENCY

[EPA-HQ-OPPT-2013-0677; FRL-9400-9]

Toxic Substances Control Act Chemical Testing; Receipt of Test Data

AGENCY: Environmental Protection Agency (EPA).

ACTION: Notice.

SUMMARY: This notice announces EPA's receipt of test data on 21 chemicals. These data were submitted pursuant to 3 test rules issued by EPA under section 4 of the Toxic Substance Control Act (TSCA). The purpose of this notice is to alert the public about test data received between June 29, 2011, and July 31, 2013.

FOR FURTHER INFORMATION CONTACT: For technical information contact: Kathy Calvo, Chemical Control Division (7405M), Office of Pollution Prevention and Toxics, Environmental Protection Agency, 1200 Pennsylvania Ave. NW., Washington, DC 20460-0001; telephone number: (202) 564-8089; fax number: (202) 564-4765; email address: calvo.kathy@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to those persons who are concerned about data on health and/or environmental effects and other characteristics of the chemicals. Since other entities may also be interested, the Agency has not attempted to describe all the specific entities that may be affected by this action.

B. How can I get copies of this document and other related information?

All documents in the dockets are available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Test Data Submissions

Section 4(d) of TSCA (15 U.S.C. 2603(d)) requires EPA to publish a notice in the Federal Register reporting the receipt of test data submitted pursuant to test rules promulgated under TSCA section 4(a) (15 U.S.C. 2603(a)). Each notice must:

1. Identify the chemical substance or mixture for which data have been received.

2. List the uses or intended uses of such chemical substance or mixture and the information required by the applicable standards for the development of test data.

3. Describe the nature of the test data developed.

EPA has received test data for the following three test rules:

• EPA received data on 4 chemicals listed in the TSCA section 4 test rule entitled “Testing for Certain High Production Volume Chemicals,” published in the Federal Register issue of March 16, 2006 (71 FR 13708) (FRL-7335-2) (docket identification (ID) number EPA-HQ-OPPT-2005-0033).

• EPA received data on 12 chemicals listed in the TSCA section 4 test rule entitled “Testing for Certain High Production Volume Chemicals; Second Group of Chemicals” published in the Federal Register issue of January 7, 2011 (76 FR 1067) (FRL-8846-9) (docket ID number EPA-HQ-OPPT-2007-0531).

• EPA received data on 5 chemicals listed in the TSCA section 4 test rule entitled “Testing for Certain High Production Volume Chemicals; Third Group of Chemicals,” published in the Federal Register issue of October 21, 2011 (76 FR 65385) (FRL-8885-5) (docket ID number EPA-HQ-OPPT-2009-0112).

The tables in this unit contain the described information required by TSCA section 4(d). See the applicable CFR citations, listed in the title of each table, for test data requirements. Data received can be found by referencing the docket ID numbers and document numbers listed in the tables. See Unit I.B. of this document for additional information about dockets. EPA reviews of test data are added to the appropriate docket upon completion.

Table 1—Data Received in Response to TSCA Section 4 Test Rule at 40 CFR 799.5085, Testing of Certain High Production Volume Chemicals, Docket Identification Number EPA-HQ-OPPT-2005-0033
Chemical identity | Use(s) | Data received | Document No.
1,3-Propanediol, 2,2-bis[(nitrooxy)methyl]-, dinitrate (ester) (CAS No.78-11-5) | Manufacturing demolition explosive and blasting caps | Determination of the Biodegradability of Pentaerythritol Tetranitrate (PETN) Using Semi-Continuous Activated Sludge, Study 2 | 0411
|  | Additional Information about Biodegradation, Study 2 | 0465
|  | Additional Information about Reproduction/Developmental Oral Toxicity Screen | 0458
9,10-Anthracenedione (CAS No. 84-65-1) | Intermediate for dyes and organics; organic inhibitor; and bird repellent for seeds | An Oral Reproduction/Developmental Toxicity Screening Study of Anthraquinone in Rats, Revised Final Report | 0413
Imidodicarbonic diamide (CAS No. 57-13-6) | Analytical reagent, especially for proteins | Melting Point; Boiling Point; n-Octanol/Water Partition Coefficient; Water Solubility | 0359
|  | Biodegradation; Acute Toxicity to Fish; Acute Toxicity to Daphnia; Toxicity to Algae; Acute Toxicity to Mammals; Bacterial Reverse Mutation Assay; Chromosomal Aberrations; Combined Repeated Dose Toxicity with Reproductive/Developmental Screen | 0360
Benzenesulfonic acid, [[4-[[4-(phenylamino) phenyl] [4-(phenylimino)-2,5-cyclohexadien-1-ylidene] methyl] phenyl] amino]-(CAS No. 1324-76-1) | Intermediate for antifouling paint agents; catalyst in organic reactions; used by offset ink makers to produce inks for heat set, cold set, and sheet-fed applications | Water Solubility n-Octanol/Water Partition Coefficient Biodegradation 96-Hour Acute Toxicity Study in Zebra Fish (Brachydanio rerio) Acute Toxicity Study in Daphnia Magna with C.I. Pigment Blue 61 (Static) | 0440 0441 0437, 0438 0436 0443
|  | Fresh Water Algal Growth Inhibition Test with C.I. Pigment Blue 61 | 0442, 0452
|  | Acute Toxicity to Mammals (in Rats) | 0426
|  | Salmonella Typhimurium/Escherichia Coli Reverse Mutation Assay (Standard Plate Test and Preincubation Test) with Alkali Blue Dry 6100/Lot 2219308, Lot 2236308, and Lot 2231308 | 0416, 0417, 0418
|  | Chromosomal Aberrations (Reflexblau 3 G TTR Micronucleus Test in Male and Female NJRI Mice after Oral Administration) | 0421, 0322
|  | A Combined 28-Day Repeated Dose Toxicity Study with the Reproduction/Developmental Toxicity Screening Test of C.I. Pigment Blue 61 in Rats by Oral Gavage | 0445
Note: CAS = Chemical Abstracts Service Registry Number.

Table 2—Data Received in Response to TSCA Section 4 Test Rule at 40 CFR 799.5087, Testing of Certain High Production Volume Chemicals; Second Group of Chemicals, Docket Identification Number EPA-HQ-OPPT-2007-0531
Chemical identity | Use(s) | Data received | Document No.
Acetaldehyde (CAS No. 75-07-0) | Intermediate used in manufacture of many products, including pyridines, acetate esters, pentaerythritol, peracetic acid, 1,3-butylene glycol (1,3-Butanediol), and acetic acid | A Dosage Range-Finding 10-Day Oral (Drinking Water) Toxicity Study in Rats; Analytical Method Validation, Compatibility, and Stability Study in Deionized Water; Combined 28-Day Repeated Dose Oral (Drinking Water) Toxicity Study with the Reproduction/ Developmental Toxicity Screening Test in Rats | 0714
|  | Acute Toxicity to Daphnia; Toxicity to Aquatic Plants (Algae) | 0673
1,3-Propanediol, 2,2-bis[(nitrooxy) methyl]-, dinitrate (ester) (CAS No. 78-11-5) | Manufacturing demolition explosive and blasting caps | Acute Toxicity to the Cladoceran (Daphnia magna) Under Static-Renewal Test Conditions; Acute Toxicity to the Fathead Minnow (Pimephales promelas) Under Static-Renewal Test Conditions | 0713
|  | Determination of Biodegradability Using Semi-Continuous Activated Sludge | 0644
1H,3H-Benzo[1,2-c:4,5-c′]difuran-1,3,5,7-tetrone (CAS No. 89-32-7) | Epoxy curing and cross-linking agent; plasticizers and synthetics intermediate | Physical/Chemical Properties Vapor Pressure; Water Partition Coefficient; Water Solubility | 0590 0691
Phenol, 4,4′-methylenebis[2,6-bis(1,1-dimethylethyl)- (CAS No. 118-82-1) | In metalworking fluids as an antioxidant; as a primary antioxidant/stabilizer in plastics | Chronic Toxicity to Daphnia; Toxicity to Plants (Algae) | 0678
Methanone, diphenyl- (CAS No. 119-61-9) | In hair mousse as a fixative for heavy perfumes; in making antihistamines, hypnotics, insecticides and ultraviolet absorbers; flavoring; polymerization inhibitor for styrene; in industry product finishes | Biodegradation; Aquatic toxicity to Daphnia; Aquatic Toxicity to Plants (Algae); Daphnids Acute Immobilization and Reproduction; Algal Growth Inhibition Ready Biodegradation; Acute Toxicity to Daphnia; Acute Toxicity to Plants (Algae); Chronic Toxicity to Daphnia; Chronic Toxicity to Plants (Algae) | 0654 0602
Ethanedioic acid (CAS No. 144-62-7) | Rust remover; antirust metal cleaners and coatings; flame-proofing and cross-linking agent in cellulose fabrics; reducing agent in mordent wool dying; acid dye stabilizing agent in nylon; scouring agent for cotton printing; dye stripper for wool; degumming silk; separation and recovery of rare earth elements from ore; bleaching leather and masonry; cleaning aluminum and wood decks; synthetic intermediate for pharmaceuticals | Determination of the Melting Point, Boiling Point, Vapor Pressure, and Water Solubility; Ready Biodegradability in a Closed Bottle; Acute Toxicity on Zebrafish (Brachydanio rerio); Acute Immobilization to Daphnia (Daphnia magna); Growth Inhibition on Algae (Pseudokirchneriella subcapitata); In Vitro Mammalian Chromosome Aberration; Validation of Analytical Method | 0712
Methanesulfinic acid, hydroxy-, monosodium salt (CAS No. 149-44-0) | Stripping and discharge agent for textiles; bleaching agent 2-15 for molasses; vat color printing pastes; polymerization of ethylenic compounds; manufacturing of arsphenamines | Determination of Mutagenic Potential (Bacterial Reverse Mutation) | 0592
1,3,5-Triazine-1,3,5(2H,4H,6H)-triethanol (CAS No. 4719-04-4) | Manufacture of bactericides and biocides | Toxicity to the Alga Pseudokirchneriella Subcapitata Over a 72-Hour Exposure Period | 0683
|  | Algal Inhibition Test | 0679
D-gluco-heptonic acid, monosodium salt, (2.xi.)- (CAS No. 31138-65-5) | Chelating agent in cosmetics, dairy cleaners, bottle cleaners, food contact paper and paperboard manufacturing, metal cleaning, kier boiling, caustic boil-off, paint stripping, boiler water additive for food processing, and as ingredient in aluminum etchant sequestrant; latex stabilizer; intravenous pharmaceuticals | Reverse Mutation Assay (Ames Test) Using Salmonella Typhimurium and Escherichia Coli, Amendment to Final Report Algal Inhibition Acute Toxicity to Rainbow Trout Acute Oral Toxicity in the Rat—Up-and-Down Procedure Micronucleus Test in the Mouse Reverse Mutation Assay (Ames Test) Using Salmonella Typhimurium and Escherichia Coli | 0718 0716 0715 0710 0709 0688
|  | Assessment of Ready Biodegradability; Manometric Respirometry | 0687
|  | Daphnia 48-hour Acute Immobilization | 0719
|  | n-Octanol/Water Partition Coefficient; Water Solubility | 0639
|  | Determination of General Physico-Chemical Properties | 0723
C.I. Leuco Sulphur Black 1 (CAS No. 66241-11-0) | Fingerprint dye | Freezing Point; Vapor Pressure; n-Octanol/Water Partition Coefficient; Water Solubility; Ready Biodegradation; Acute Toxicity to Fish; Acute Toxicity to Daphnia; Algal Toxicity; Acute Oral Toxicity; Bacterial Reverse Mutation (Ames Test); In Vitro Mammalian Cell Gene Mutation; Repeated Dose/Reproductive/Developmental Toxicity in Rats; Boiling Point; In Vitro Chromosome Aberration Test | 0675
Castor oil, oxidized (CAS No. 68187-84-8) | Plasticizer in lacquers, artificial leathers, hydraulic fluids, and adhesives | Melting Point; Boiling Point; Ready Biodegradability; Reverse Mutation Using Bacteria (Salmonella Typhimurium and Escherichia Coli); In Vitro Mammalian Chromosome Aberration in Chinese Hamster V79 Cells; Combined 28-day Repeated Dose Oral Toxicity Screening Study | 0674
Benzenediamine, ar,ar-diethyl-ar-methyl- (CAS No. 68479-98-1) | No current use identified | Vapor Pressure; n-Octanol/Water Partition Coefficient; Water Solubility; Aquatic Toxicity; Acute Toxicity to Fish; Acute Toxicity to Daphnia | 0677
|  | Melting Point; Genotoxicity (Chromosomal Damage) | 0665
|  | Melting Point; Genotoxicity (Chromosomal Damage) | 0660
|  | Mammalian Toxicity: Reproductive/Developmental Toxicity Screening | 0645
|  | Subchronic 21-Day Dermal Toxicity | 0633
|  | Aquatic Toxicity; Toxicity to Plants (Algae); In Vitro Bacterial Reverse Mutation; Chromosomal Damage; Reproductive/Developmental Toxicity | 0632
Note: CAS = Chemical Abstracts Service Registry Number.

Table 3—Data Received in Response to TSCA Section 4 Test Rule at 40 CFR 799.5089, Testing of Certain High Production Volume Chemicals; Third Group of Chemicals, Docket Identification Number EPA-HQ-OPPT-2009-0112
Chemical identity | Use(s) | Data received | Document No.
Benzenesulfonyl chloride (CAS No. 98-09-9) | Intermediate for benzene sulfonamides, thiophenol, glybuzole, n-2-chloroethyl amides, and benzonitrile; reagent for Friedel-Crafts sulfonylation; insecticides and miticides | Reverse Mutation Assay (Ames Test) Using Salmonella Typhimurium and Escherichia Coli Daphnia 48-Hour Acute Immobilization Test; Algal Inhibition Test | 0128 0140
|  | Chromosome Aberration Test in Human Lymphocytes, In Vitro | 0134
Benzene, 1-chloro-4-(trifluoromethyl)- (CAS No. 98-56-6) | Solvent for industrial cleaning, aerosols, adhesives, coatings, inks, and electronic applications; 1, 1, 1-trichloroethane alternative; dye intermediate; dielectric fluid; dinitroaniline herbicide intermediate; ingredient in home maintenance product | Growth Inhibition Test on Algae; Ready Biodegradability in a Manometric Respirometry Test; Validation of the Analytical Method for the Determination of Benzene, 1-Chloro-4-(Trifluoromethyl)- | 0141
Benzenesulfonic acid, 3-nitro-, sodium salt (1:1) (CAS No. 127-68-4) | Stabilizer for fiber reactive dyeing; assistant in discharge printing; viscosity control agent in cosmetics; oxidizing agent in demetalizers and industrial cleaners; anti-reduction agent | Vapor Pressure; Reproductive/ Developmental Toxicity Screening Test; Characterization Study; Validation of Analytical Method Concentration in Dose-Formulation; Acute Oral Toxicity; Repeat Dose 14-day Oral Toxicity Study (Dose Range Finding Study) | 0144
Propanoic acid, 2-methyl-, 3-(benzoyloxy)-2,2,4-trimethylpentyl ester (CAS No. 22527-63-5) | Plasticizer | Acute Oral Toxicity in the Rat, Up-and-Down Procedure; Reverse Mutation Assay (Ames Test) Using Salmonella Typhimurium and Escherichia Coli | 138
|  | Freezing Point; Boiling Point; Vapor Pressure; n-Octanol/Water Partition Coefficient; Water Solubility; Ready Biodegradation; Toxicity to Daphnia; Toxicity to Plants (Algae); In Vitro Mammalian Chromosomal Aberration | 0145
Benzenesulfonic acid, dimethyl- (CAS No. 25321-41-9) | Esterification and acetylation catalyst; catalyst for coatings and foundry resins; in the preparation of esters; hardening agent in plastics; activator for nicotine insecticides; curing agent for resins, phenolic foundry resins; descaling agent in foundry sand castings; plating aid in electroplating baths; hydrotrope for agricultural formulations; surfactant in cosmetics | Boiling Point; Vapor Pressure; n-Octanol/Water Partition Coefficient | 0110
Note: CAS = Chemical Abstracts Service Registry Number.

Authority: 15 U.S.C. 2603.

List of Subjects

Environmental protection, Hazardous substances.

Dated: October 30, 2013.
Maria J. Doa,
Director, Chemical Control Division, Office of Pollution Prevention and Toxics.

[FR Doc. 2013-26644 Filed 11-5-13; 8:45 am]

BILLING CODE 6560-50-P